DEPARTMENT OF EDUCATION

Notice Announcing OMB Approval of Information Collections

AGENCY: Department of Education.

ACTION: Notice announcing OMB Approval of Information Collections.

SUMMARY: The Department of Education (Department) announces that the Office of Management and Budget (OMB) has approved certain collections of information, listed in the Supplementary Information below, following the Department's submission of requests for approvals under the Paperwork Reduction Act of 1995 (PRA) (44 U.S.C. 3501 et seq.). This notice describes the information collections that have been approved, their OMB control numbers, and their current expiration dates.

FOR FURTHER INFORMATION CONTACT: For the Talent Search Program: Geraldine Smith, U.S. Department of Education, 1990 K Street, NW., Room 7020, Washington, DC 20006-7020. Telephone: (202) 502-7543 or via the Internet at Geraldine.Smith@ed.gov.

For the Training Program for Federal TRIO Programs: Suzanne Ulmer, U.S. Department of Education, 1990 K Street, NW., Room 7092, Washington, DC 20006-7092. Telephone: (202) 502-7789 or via the Internet at Suzanne.Ulmer@ed.gov.

If you use a telecommunications device for the deaf (TDD), call the Federal Relay Service (FRS), toll free, at 1-800-877-8339.

Individuals with disabilities can obtain this document in an accessible format (e.g., braille, large print, audiotape, or computer diskette) on request to any of the contact people listed in this section.

SUPPLEMENTARY INFORMATION: The PRA and its implementing regulations require Federal agencies to display OMB control numbers and inform respondents of their legal significance after OMB has approved an agency's information collections. In accordance with those requirements, the Department notifies the public that the following information collections have been approved (or re-approved) by OMB following the Department's submission of an information collection request (ICR):

• OMB Control No. 1840-0814, Application for Grants under the Training Program for Federal TRIO Programs. The expiration date for this information collection is June 30, 2013.

• OMB Control No. 1840-0818, Talent Search Grant Application. The expiration date for this collection is October 31, 2013.

Electronic Access to This Document

You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: November 17, 2010.
Eduardo Ochoa,
Assistant Secretary for Postsecondary Education.

[FR Doc. 2010-29469 Filed 11-22-10; 8:45 am]

BILLING CODE 4000-01-P